DEPARTMENT OF THE INTERIOR

Minerals Management Service

30 CFR Part 250

RIN 1010-AD03

Oil and Gas and Sulphur Operations in the Outer Continental Shelf (OCS), Document Incorporated by Reference for Fixed Platforms

AGENCY: Minerals Management Service (MMS), Interior.

ACTION: Correction to final regulations.

SUMMARY: This document makes a correction to the final rule titled “Oil and Gas and Sulphur Operations in the Outer Continental Shelf (OCS) Document Incorporated by Reference for Fixed Platforms” that was published Monday, April 21, 2003 (68 FR 19352). We are correcting a typographical error in § 250.912 (a).

EFFECTIVE DATE: May 21, 2003.

FOR FURTHER INFORMATION CONTACT: Joseph Levine, Chief, Operations Analysis Branch, at (703) 787-1033 or FAX (703) 787-1555.

SUPPLEMENTARY INFORMATION:

Background

The final regulations that are the subject of these corrections supersede 30 CFR part 250 (subparts A and I) regulations on the effective date and affect all operators and lessees on the Outer Continental Shelf.

The published final regulations contained an incorporation by reference into our regulations the 21st edition of American Petroleum Institute Recommended Practice (API RP 2A), “Recommended Practice for Planning, Designing and Constructing Fixed Offshore Platforms—Working Stress Design.”

Need for Correction

As published, the final regulations contain a typographical error (OVS instead of the correct acronym OCS). This may prove to be misleading and is in need of correction.

List of Subjects in 30 CFR Part 250

Continental shelf, Incorporation by reference; Oil and gas development and production, Oil and gas exploration, Sulphur development and production.

Correction of Publication

Accordingly, 30 CFR part 250 is corrected by making the following correcting amendment:

PART 250—[AMENDED]

1. The authority citation for 30 CFR part 250 continues to read as follows:

Authority: 43 U.S.C. 1331 et seq.

2. Section 250.912(a) is revised to read as follows:

§ 250.912 Periodic inspection and maintenance.

(a) All platforms installed in the OCS shall be inspected periodically in accordance with the provisions of section 14, Surveys of API RP 2A-WSD (incorporated by reference, see § 250.198). * * *

* * * * *

Dated: June 23, 2003.
Rebecca W. Watson,
Assistant Secretary, Land and Minerals Management.

[FR Doc. 03-17192 Filed 7-9-03; 8:45 am]

BILLING CODE 4310-MR-P